DEPARTMENT OF HOMELAND SECURITY

Coast Guard

33 CFR Part 117

[USCG-2009-0235]

Drawbridge Operation Regulation; Long Island, NY Inland Waterway From East Rockaway Inlet to Shinnecock Canal, Hempstead, NY, Maintenance

AGENCY: Coast Guard, DHS.

ACTION: Notice of temporary deviation from regulations.

SUMMARY: The Commander, First Coast Guard District, has issued a temporary deviation from the regulation governing the operation of the Wantagh State Parkway Bridge across Sloop Channel at mile 15.4, at Jones Beach, New York. Under this temporary deviation the bridge may operate on a limited operating schedule to facilitate the completion of bridge construction.

DATES: This deviation is effective from April 2, 2009 through May 22, 2009.

ADDRESSES: and are available online at http://www.regulations.gov, selecting the Advanced Docket Search Option on the right side of the screen, inserting USCG-2009-0235 in the Docket ID box, pressing Enter, and then clicking on the item in the Docket ID column. This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call Judy Leung-Yee, Project Officer, First Coast Guard District, telephone 212-668-7165. If you have questions on viewing the docket, call Renee V. Wright, Program Manager, Docket Operations, telephone 202-366-9826.

SUPPLEMENTARY INFORMATION: The Wantagh State Parkway Bridge has a vertical clearance in the closed position of 16 feet at mean high water. The existing drawbridge operation regulations are listed at 33 CFR 117.5. The New York State Department of Transportation requested a temporary deviation to facilitate the completion of bridge construction.

The waterway has seasonal recreational vessels and fishing vessels of various sizes. We contacted the New York Marine Trades Association and Station Jones Beach. No objection to the proposed temporary deviation schedule was received.

Under this temporary deviation, in effect from April 2, 2009 through May 22, 2009, the Wantagh State Parkway Bridge at mile 15.4, across Sloop Channel, shall operate as follows:

From Monday through Friday the bridge shall open on signal at 6:30 a.m. and 4 p.m. after least a 30-minute advance notice is given. From 4 p.m. to 6:30 a.m. the bridge shall open on signal after at least a two-hour advance notice is given.

From Friday, 4 p.m. through Monday, 6:30 a.m. the bridge shall open on signal after at least a two-hour advance notice is given.

At all other times the bridge need not open for marine traffic.

Advance notice may be given by calling (631) 383-6598.

In accordance with 33 CFR 117.35(e), the bridge must return to its regular operating schedule immediately at the end of the designated time period. This deviation from the operating regulations is authorized under 33 CFR 117.35.

Dated: April 10, 2009.
Gary Kassof,
Bridge Program Manager, First Coast Guard District.

[FR Doc. E9-9636 Filed 4-27-09; 8:45 am]

BILLING CODE 4910-15-P